COMMITTEE FOR PURCHASE FROM PEOPLE WHO ARE BLIND OR SEVERELY DISABLED

Procurement List; Proposed Additions

AGENCY: Committee for Purchase from People Who Are Blind or Severely Disabled.

ACTION: Proposed Additions to Procurement List.

SUMMARY: The Committee is proposing to add to the Procurement List products and services to be furnished by nonprofit agencies employing persons who are blind or have other severe disabilities.

Comments Must Be Received on or Before: July 14, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: This notice is published pursuant to 41 U.S.C 47(a) (2) and 41 CFR 51-2.3. Its purpose is to provide interested persons an opportunity to submit comments on the proposed actions. If the Committee approves the proposed additions, the entities of the Federal Government identified in the notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products:

Product/NSN: Belt, Rigger's.

8415-01-517-0305 (Size 34, Color: Black);

8415-01-517-0308 (Size 40, Color: Black);

8415-01-517-0310 (Size 46, Color: Black);

8415-01-517-0946 (Size 34, Color: Brown);

8415-01-517-0948 (Size 40, Color: Brown);

8415-01-517-0949 (Size 46, Color: Brown);

8415-01-517-0951 (Size 34, Color: Gray);

8415-01-517-0954 (Size 46, Color: Gray);

8415-01-517-0961 (Size 40, Color: Gray);

8415-01-517-1046 (Size 34, Color: Green);

8415-01-517-1051 (Size 40, Color: Green);

8415-01-517-1055 (Size 46, Color: Green);

8415-01-517-1079 (Size 34, Color: Tan);

8415-01-517-1081 (Size 40, Color: Tan); and

8415-01-517-1083 (Size 46, Color: Tan).

NPA: Travis Association for the Blind, Austin, Texas.

Contract Activity: Defense Supply Center Philadelphia, Philadelphia, Pennsylvania.

Product/NSN: Side Rack, Vehicle 2510-00-590-9734.

NPA: Tuscola County Community Mental Health Services, Caro, Michigan.

Contract Activity: U.S. Army Tank Acquisition Center, Warren, Michigan.

Product/NSN: Tabs, Index.

7530-01-368-3489 (Assorted Colors—Tabs 1 through 10);

7530-01-368-3490 (Assorted Colors—Tabs January through December);

7530-01-368-3491 (Clear—Tabs January through December);

7530-01-368-3492 (Assorted Colors—Tabs A through Z); and

7530-01-368-3493 (Assorted Colors—Index Sheets 1 through 31).

NPA: South Texas Lighthouse for the Blind, Corpus Christi, Texas.

Contract Activity: Office Supplies & Paper Products Acquisition Center, New York, New York.

Product/NSN: Tray, Mess, Compartmented, 7350-01-411-5266.

NPA: The Lighthouse for the Blind in New Orleans, New Orleans, Louisiana.

Contract Activity: GSA, Southwest Supply Center, Fort Worth, Texas.

Services:

Service Type/Location: Custodial & Grounds Maintenance. Federal Building, 100 Bluestone Road, Mount Hope, West Virginia.

NPA: Wyoming County Workshop, Inc., Maben, West Virginia.

Contract Activity: GSA, PBS, Region 3 (3PMT), Philadelphia, Pennsylvania.

Service Type/Location: Custodial Services. Naval Reserve Center, White River Junction, Vermont.

NPA: Northern New England Employment Services, Portland, Maine.

Contract Activity: Naval Facilities Engineering Command—Portsmouth, Portsmouth, New Hampshire.

Service Type/Location: Custodial Services, USDA AMS S&T FLS, National Science Laboratory, Gastonia, North Carolina.

NPA: Gaston Skills, Inc., Gastonia, North Carolina.

Contract Activity: USDA, Animal & Plant Health Inspection Service, Minneapolis, Minnesota.

Service Type/Location: Custodial Services, Veterans Administration Community Based Outpatient Clinic, Traverse City, Michigan.

NPA: GTP Industries, Inc., Traverse City, Michigan.

Contract Activity: VA Medical Center—Saginaw, Michigan.

Service Type/Location: Custodial Services (Base-wide), Yuma Proving Ground (Excluding Buildings 3013, 611, and 3189), Yuma, Arizona.

NPA: Yuma WORC Center, Inc., Yuma, Arizona.

Contract Activity: Army Contracting Agency, Yuma Proving Ground, Arizona.

Service Type/Location: Grounds Maintenance, Defense Supply Center Richmond, 8000 Jefferson Davis Highway, Richmond, Virginia.

NPA: Richmond Area Association for Retarded Citizens, Richmond, Virginia.

Contract Activity: Defense Supply Center Richmond, Richmond, Virginia.

Service Type/Location: Medical Transcription. 355th Medical Supply-F5HOSP, Davis-Monthan AFB, Arizona.

NPA: National Telecommuting Institute, Inc., Boston, Massachusetts.

Contract Activity: 355th Contracting Squadron, Davis-Monthan AFB, Arizona.

Service Type/Location: Post-wide Administrative Services, Fort McPherson, Georgia.

Service Type/Location: Post-wide Administrative Services, Fort Gillem, Georgia.

NPA: WORKTEC, Jonesboro, Georgia.

Contract Activity: U.S. Army, ACA SRCC, Fort McPherson, Georgia.

Service Type/Location: Telephone/Switchboard Operator, VA Northern California Health Care System, VA Sacramento Medical Center at Mather Field, Mather, California.

NPA: Project HIRED, Santa Clara, California.

Contract Activity: VISN 21 Consolidated Contracting Activity, San Francisco, California.

Sheryl D. Kennedy,
Director, Information Management.

[FR Doc. 04-13295 Filed 6-10-04; 8:45 am]

BILLING CODE 6353-01-P